DEPARTMENT OF THE INTERIOR

Bureau of Land Management

[UT-920-1320-EL, UTU-84285]

Notice of Availability of the Environmental Assessment, Determination of NEPA Adequacy, and Public Hearing for Coal Lease Application UTU-84285, Utah

AGENCY: Bureau of Land Management, Interior.

ACTION: Notice of availability of the Mill Fork West Tract Coal Lease by Application UTU-84285 and Federal Coal Notice of Public Hearing, and Request for Environmental Assessment, Determination of NEPA Adequacy, Maximum Economic Recovery and Fair Market Value Comments.

SUMMARY: Pursuant to 43 Code of Federal Regulation (CFR) 3425.4, the Bureau of Land Management (BLM) Utah State Office, hereby gives notice that Environmental Assessments (EA) and Documentation of NEPA Adequacy (DNA) are available and a public hearing will be held to lease Federal coal. The EA/DNA analyzes and discloses direct, indirect, and cumulative environmental impacts of issuing a Federal coal lease competitively for 213.57 acres in Emery County, Utah. The purpose of the public hearing is to solicit comments from the public on (1) the proposal to issue a Federal coal lease; (2) the proposed competitive lease sale; (3) the Fair Market Value (FMV) of the Federal coal; and (4) Maximum Economic Recovery (MER) of the Federal coal included in the tract.

DATES: Written comment will be accepted until June 15, 2006. The public hearing will be held at 7 p.m on Thursday June 1, 2006.

ADDRESSES: Written comments should be addressed to Stan Perkes, 801-539-4036, Bureau of Land Management, Utah State Office, Division of Lands and Minerals, P.O. Box 45155, Salt Lake City, Utah 84145. The public hearing will be held in the Price Field Office, 125 South 600 West, Price, Utah 84501 where copies of the EA/DNA are available for inspection or copies provided upon request.

FOR FURTHER INFORMATION CONTACT: Mr. Steve Rigby, Mining Engineer at the Price Field Office address above or by telephone at 435-636-3604.

SUPPLEMENTARY INFORMATION: On January 25, 2006 PacifiCorp applied for a Federal coal lease. The Federal tract was assigned case number UTU-84285. The lands included in the delineated Federal coal lease tract (“Mill Fork West”) are located approximately fourteen miles northwest of Huntington, Utah on Forest Service surface lands with federally administered minerals and are described as follows:

T. 16 S., R. 6 E., SLM, Emery County, Utah

Sec. 10, S½NE¼NE¼, SE¼NE¼, W½E½SE¼;

Sec. 15, E½W½E½;

Sec. 22, lot 3.

Containing approximately 213.57 acres in Emery County, Utah.

The Mill Fork West coal tract has two minable coal beds. The minable portions of the Hiawatha coal bed and the Blind Canyon coal bed in this area are around eleven feet in thickness. The Hiawatha and Blind Canyon beds contains around 400 thousand tons of recoverable high-volatile A to B bituminous coal. The coal quality in the Hiawatha coal bed on an “as received basis” is as follows: 12,892 Btu/lb., 4.54 percent moisture, 7.69 percent ash, 42.46 percent volatile matter, 45.48 percent fixed carbon and 0.57 percent sulfur. The coal quality in the Blind Canyon coal bed on an “as received basis” is as follows: 13,314 Btu/lb., 5.26 percent moisture, 4.68 percent ash, 44.18 percent volatile matter, 45.88 percent fixed carbon and 0.61 percent sulfur.

BLM requests public comment on the fair market value and environmental effects of this tract. The BLM signed a Decision Notice/ Finding of No Significant Impact dated May 15, 2006 that discusses the environmental effects of mining this tract. The Notice of Decision was posted in the Price Field Office and the Utah State Office on May 15, 2006. Comments should address, but not necessarily be limited to the following information.

1. The quality of the coal resource;

2. The mining methods or methods which would achieve maximum economic recovery of the coal, including specifications of seams to be mined and the most desirable timing and rate of production;

3. Whether this tract is likely to be mined as part of an existing mine and therefore should be evaluated on a realistic incremental basis, in relation to the existing mine to which it has the greatest value;

4. Whether the tract should be evaluated as part of a potential larger mining unit and revaluated as a portion of a new potential mine (i.e., a tract which does not in itself form a logical mining unit);

5. Restrictions to mining that may affect coal recovery;

6. The price that the mined coal would bring when sold;

7. Costs, including mining and reclamation, of producing the coal and the time of production;

8. The percentage rate at which anticipated income streams should be discounted, either with inflation or in the absence of inflation, in which case the anticipated rate of inflation should be given;

9. Depreciation, depletion, amortization and other tax accounting factors;

10. The value of any surface estate where held privately;

11. Documented information on the terms and conditions of recent and similar coal land transactions in the lease sale area;

12. Any comparable sales data of similar coal lands; and coal quantities and the FMV of the coal developed by BLM may or may not change as a result of comments received from the public and changes in the market conditions between now and when final economic evaluations are completed.

In accordance with Federal coal management regulations 43 CFR parts 3422 and 3425, the public meeting is being held on the proposed sale to allow public comment on and discussion of the potential effects of mining and proposed lease. The meeting is being advertised in the Emery County Progress located in Castledale, Utah. 43 CFR part 3422 states that, no less than 30 days prior to the publication of the notice of the sale, the Secretary shall submit public comments on the FMV appraisal and the MER, and on factors that may affect these two determinations. As provided in 43 CFR 3422.1(a), proprietary data marked as confidential may be submitted to the Bureau of Land Management in response to this solicitation of public comments. Data so marked shall be treated in accordance with the laws and regulations governing confidentiality of such information. A copy of the comments submitted by the public on FMV and MER, except those portions identified as proprietary by the author and meeting exemptions stated in the Freedom of Information Act (FOIA), will be available for public inspection at the BLM, Utah State Office during the regular business hours (7:45 a.m.-4:30 p.m.) Monday through Friday. If you wish to withhold your name or address from public review or from disclosure under the FOIA you must state this prominently at the beginning of your written comments. Such requests will be honored to the extent allowed by the FOIA. All submissions from organizations, businesses and individuals identifying themselves as representatives or officials of organizations or businesses will be available for public inspection in its entirety. Substantive comments, whether written or oral, will receive equal consideration prior to any lease offering. A copy of the EA/DNA, the case file, and the comments submitted by the public, except those portions identified as proprietary by the commenter and meeting exemptions stated in the FOIA, will be available for public inspection after at the Utah State Office, 440 West 200 South, Suite 500, Salt Lake City, Utah 84145.

Kent Hoffman,
Deputy State Director, Lands and Minerals.

[FR Doc. 06-5005 Filed 5-30-06; 8:45 am]

BILLING CODE 4310-DK-P